NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of a revision to an announcement of meetings for the transaction of National Science Board business.

Federal Register Citation of Previous Announcement: 83 FR 32330-31, published on July 12, 2018.

Previously Announced Time and Date of the Meetings:

Committee on Strategy (CS)

Tuesday, July 17, 2018

Open Session: 1:00-1:30 p.m.

• Committee Chair's Opening Remarks

• Approval of Prior Minutes

• FY 2018 Appropriations and FY 2019 Budget Request Update

Wednesday, July 18, 2018

Closed Session: 9:30-10:30 a.m.

• Committee Chair's Opening Remarks

• Approval of Prior Minutes

• FY 2020 Budget Discussion

Plenary Board

Tuesday, July 17, 2018

Open Session 10:15 a.m.-12:00 p.m.

Presentation and Panel Discussion—“Being Smart About Artificial Intelligence (AI)”

• Chair's Opening Remarks and Introductions

• Presentation, Dr. Andrew Moore, Carnegie Mellon University

• Panel Presentations and Discussion

• Dr. Michael Jordan, University of California, Berkeley

• Dr. Daniela Rus, Massachusetts Institute of Technology

• Dr. Charles Isbell, Georgia Institute of Technology

• Dr. James Kurose, Assistant Director, Computer & Information Science & Engineering

Wednesday, July 18, 2018

Open Session: 11:50 a.m.-2:15 p.m.

• Board Chair's Opening Remarks

• Introduction of Presentation on the National Academies and Board of International Scientific Organizations

(Break for lunch from 12:20-1:15 p.m.)

• Board Chair's Opening Remarks

• NSF Director's Remarks

• Approval of Prior Minutes

• Vote: NSB Calendar for CY 2019

• Open Committee Reports

• NSF INCLUDES Presentation

• Board Chair's Closing Remarks

Changes in the Meetings:

Committee on Strategy (CS)

Tuesday, July 17, 2018

Open Session: 1:00-1:30 p.m.

• Committee Chair's Opening Remarks

• Approval of Prior Minutes

• FY 2019 Budget Request Update

Wednesday, July 18, 2018

Closed session: 9:30-10:30 a.m.

• Committee Chair's Opening Remarks

• Approval of Prior Minutes

• FY 2020 Budget Discussion

• FY 2018 Appropriations

Plenary Board

Tuesday, July 17, 2018

Open Session 10:15 a.m.-12:00 p.m.

Presentation and Panel Discussion—“Being Smart About Artificial Intelligence (AI)”

• Chair's Opening Remarks and Introductions

• Presentation, Dr. Andrew Moore, Carnegie Mellon University

• Panel Presentations and Discussion

• Dr. Michael Jordan, University of California, Berkeley

• Dr. Daniela Rus, Massachusetts Institute of Technology

• Dr. Charles Isbell, Georgia Institute of Technology

• Dr. James Kurose, Assistant Director, Computer & Information Science & Engineering; Assistant Director for Artificial Intelligence, Whites House Office of Science and Technology Policy

Wednesday, July 18, 2018

Open Session: 11:50 a.m.-2:15 p.m.

• Board Chair's Opening Remarks

• Introduction of Presentation on the National Academies and Board of International Scientific Organizations

(Break for lunch from 12:20-1:15 p.m.)

• Board Chair's Opening Remarks

• NSF Director's Remarks

• Approval of Prior Minutes

• Vote: NSB Calendar for CY 2019

• Open Committee Reports

• NSF Learning Agenda Presentation

• Board Chair's Closing Remarks

Open meetings in the boardroom are webcast. In addition to the regular link for the July 2018 meetings at http://www.tvworldwide.com/events/nsf/180717/, members of the public may also watch open meetings on You Tube. On July 17, the video can be accessed at: https://www.youtube.com/watch?v=hdGXXO_pMzQ&feature=youtu.be. On July 18, the video can be accessed at: https://www.youtube.com/watch?v=bg9Tf020B0Q&feature=youtu.be.

Contact Person For More Information: Brad Gutierrez, bgutierr@nsf.gov, 703/292-7000. Please refer to the National Science Board website for additional information. Meeting information and schedule updates (time, place, subject matter, and status of meeting) may be found at http://www.nsf.gov/nsb/meetings/notices.jsp#sunshine.

Chris Blair,
Executive Assistant, National Science Board Office.

[FR Doc. 2018-15229 Filed 7-12-18; 4:15 pm]

BILLING CODE 7555-01-P